DEPARTMENT OF LABOR

Employment and Training Administration

[TA-W-63,278]

Wheeling Pittsburgh Steel Corporation, Allenport, PA; Notice of Revised Determination on Reconsideration

On July 11, 2008, the Department issued an Affirmative Determination Regarding Application on Reconsideration applicable to workers and former workers of the subject firm. The notice was published in the Federal Register on July 21, 2008 (73 FR 42369).

The previous investigation initiated on April 30, 2008, resulted in a negative determination issued on May 21, 2008, was based on the finding that imports of cold rolled sheet coil did not contribute importantly to worker separations at the subject firm and no shift in production to a foreign source occurred. The denial notice was published in the Federal Register on June 3, 2008 (73 FR 31716).

In the request for reconsideration, United Steelworkers, Local Union 1187 provided additional information regarding the subject firm's customers.

The Department requested a list of additional customers from the customer official of the subject firm. Upon further investigation it was determined that Wheeling Pittsburgh Steel Corporation, Allenport, Pennsylvania supplied component parts for steel pipe and tube and a loss of business with a manufacturer of steel pipe and tube whose workers were certified eligible to apply for adjustment assistance contributed importantly to the separation or threat of separation of workers at Wheeling Pittsburgh Steel Corporation, Allenport, Pennsylvania.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the additional facts obtained on reconsideration, I determine that workers of Wheeling Pittsburgh Steel Corporation, Allenport, Pennsylvania, qualify as adversely affected secondary workers under Section 222 of the Trade Act of 1974, as amended. In accordance with the provisions of the Act, I make the following certification:

All workers of Wheeling Pittsburgh Steel Corporation, Allenport, Pennsylvania, who became totally or partially separated from employment on or after April 21, 2007, through two years from the date of this certification, are eligible to apply for adjustment assistance under Section 223 of the Trade Act of 1974, and are eligible to apply for alternative trade adjustment assistance under Section 246 of the Trade Act of 1974.

Signed in Washington, DC this 11th day of August 2008.
Linda G. Poole,
Certifying Officer, Division of Trade Adjustment Assistance.

[FR Doc. E8-19185 Filed 8-18-08; 8:45 am]

BILLING CODE 4510-FN-P